DEPARTMENT OF THE TREASURY

5 CFR Chapter XXI

12 CFR Chapters I, V, XV, and XVIII

17 CFR Chapter IV

19 CFR Chapter I

26 CFR Chapter I

27 CFR Chapter I

31 CFR Subtitle A and Chapters I, II, IV through VIII, IX, and X

48 CFR Chapter 10

Reducing Regulatory Burden; Retrospective Review Under E.O. 13563

AGENCY: Department of the Treasury.

ACTION: Request for information.

SUMMARY: On January 18, 2011, the President issued Executive Order 13563, “Improving Regulation and Regulatory Review,” which sets forth principles and requirements designed to promote public participation, improve integration and innovation, increase flexibility, ensure scientific integrity, and increase retrospective analysis of existing rules. The Department of the Treasury, in its effort to improve Treasury regulations, invites interested members of the public to submit comments on its preliminary plan to review retrospectively its regulations and to submit suggestions as to which Treasury regulations should be modified, expanded, streamlined, or repealed.

DATES: Comment due date: April 29, 2011.

ADDRESSES: Interested persons are invited to submit comments regarding this notice according to the instructions below. All submissions must refer to the document title. Treasury encourages the early submission of comments.

Electronic Submission of Comments. Interested persons must submit comments electronically through the Federal eRulemaking Portal at http://www.regulations.gov. Electronic submission of comments allows the commenter maximum time to prepare and submit a comment, ensures timely receipt, and enables the Department to make them available to the public. Comments submitted electronically through the http://www.regulations.gov Web site can be viewed by other commenters and interested members of the public.

Commenters should follow the instructions provided on that site to submit comments electronically.

Public Inspection of Comments. All properly submitted comments will be available for inspection and downloading at http://www.regulations.gov.

Additional Instructions. In general, comments received, including attachments and other supporting materials, are part of the public record and are immediately available to the public. Do not enclose any information in your comment or supporting materials that you consider confidential or inappropriate for public disclosure.

FOR FURTHER INFORMATION CONTACT: Office of the Assistant General Counsel for General Law, Ethics, and Regulation at guidance@treasury.gov.

SUPPLEMENTARY INFORMATION:

Background—Executive Order 13563

On January 18, 2011, the President signed Executive Order 13563, “Improving Regulation and Regulatory Review,” which outlines the following guiding principles:

• Consistent with law, agencies must consider costs and benefits of its regulations and choose the least burdensome path.

• The regulatory process must be transparent and include public participation.

• Agencies must attempt to coordinate, simplify, and harmonize regulations to reduce costs and promote certainty for businesses and the public.

• Agencies must consider approaches that maintain freedom of choice and flexibility, including disclosure of relevant information to the public.

• Regulations must be guided by objective scientific evidence.

Section 6 of Executive Order 13563 emphasizes the importance of retrospective analysis of rules and requires agencies to “develop and submit to the Office of Information and Regulatory Affairs a preliminary plan, consistent with law and its resources and regulatory priorities, under which the agency will periodically review its existing significant regulations to determine whether any such regulations should be modified, expanded, streamlined, or repealed so as to make the agency's regulatory program more effective or less burdensome in achieving the regulatory objectives.”

Request for Comments

The Department of the Treasury, in implementing Executive Order 13563, invites public comments on two areas of interest. First, comments are invited concerning the development of its preliminary plan to periodically review existing significant regulations. Second, Treasury invites comments about which regulations should be modified, expanded, streamlined, or repealed in order to make the Department's regulations more effective or less burdensome or both. Although Treasury welcomes general comments, in addressing these two areas, commenters are encouraged to respond to the questions below:

1. What factors should Treasury consider in selecting and prioritizing existing rules for retrospective review?

2. Which regulatory programs are working well and should serve as a model for other Treasury programs?

3. Are there Treasury rules that are outdated or contrary to recently enacted statutes, or otherwise in need of updating?

4. In which Treasury regulations are there opportunities to use new information technologies to improve or ease burdens?

5. How often should Treasury review its existing regulations?

6. Are there any Treasury rules that duplicate requirements or contain conflicting requirements, either with another Treasury bureau or another Federal agency? If so, please identify and explain how these duplicative or conflicting requirements could be modified.

7. How can Treasury improve public outreach and increase public participation in the rulemaking process?

8. Please provide any additional information that will help the Department to develop and implement its preliminary plan for retrospective review of regulations.

The Department advises that this notice and request for comments is issued for information and policy development purposes. Although the Department encourages responses to this notice, such comments do not bind the Department to taking any further actions related to the submission.

George W. Madison,
General Counsel, Department of the Treasury.

[FR Doc. 2011-7468 Filed 3-29-11; 8:45 am]

BILLING CODE 4810-25-P